DEPARTMENT OF COMMERCE

International Trade Administration, Commerce

Export Trade Certificate of Review

ACTION: Notice of issuance of an amended export trade certificate of review, Application No. 95-3A006.

SUMMARY: The Department of Commerce has issued an amendment to the Export Trade Certificate of Review granted to Water and Wastewater Equipment Manufacturers Association (“WWEMA”) on June 21, 1996. Notice of issuance of the Certificate was published in the Federal Register on July 12, 1996 (61 FR 36708).

FOR FURTHER INFORMATION CONTACT: Vanessa M. Bachman, Acting Director, Office of Export Trading Company Affairs, International Trade Administration, (202) 482-5131 (this is not a toll-free number) or E-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR part 325 (2000).

The Office of Export Trading Company Affairs (“OETCA”) is issuing this notice pursuant to 15 CFR 325.6(b), which requires the Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

Export Trade Certificate of Review No. 95-00006, was issued to WWEMA on June 21, 1996 (61 FR 36708, July 12, 1996) and previously amended on May 20, 1997 (62 FR 29104, May 29, 1997) and February 23, 1998 (63 FR 10003, February 27, 1998).

WWEMA's Export Trade Certificate of Review has been amended to:

1. Add each of the following companies as a new “Member” of the Certificate within the meaning of section 325.2(1) of the Regulations (15 CFR 325.2(1)): Aqua-Aerobic Systems, Inc., Rockford, Illinois; Pentair Pump Group, Inc., North Aurora, Illinois; and ITT Industries, for the activities of its division Sanitaire, Brown Deer, Wisconsin;

2. Delete the following companies as “Members” of the Certificate: Aero-Mod, Incorporated, Manhattan, Kansas; Elsag Bailey Process Automation N.V. for the activities of its unit Bailey-Fischer & Porter Company, Warminster, Pennsylvania; CBI Walker, Inc., Aurora, Illinois; Dorr-Oliver Incorporated, Milford, Connecticut; Enviroquip, Inc., Austin, Texas; General Signal Corporation for the activities of its unit General Signal Pump Group, North Aurora, Illinois; The Gorman-Rupp International Company, Mansfield, Ohio; Great Lakes Environmental, Inc., Addison, Illinois; Hycor Corporation, Lake Bluff, Illinois; I. Kruger, Inc., Cary, North Carolina; Jeffrey Chain Corporation, Morristown, Tennessee; Mass Transfer Systems, Inc., Fall River, Massachusetts; Patterson Pump Co., Taccoa, Georgia; SanTech, Inc. dba Sanborn Technologies, Medway, Massachusetts; Wallace & Tiernan, Inc., Belleville, New Jersey; Water Equipment Technologies, Inc., West Palm Beach, Florida; Water-Pollution Control Corp, Brown Deer, Wisconsin; Waterlink, Inc., Canton, Ohio; and Waterlink Operational Services, Inc. dba Blue Water Services, Manhattan, Kansas; and

3. Change the listing of the company name for the current Members: A.O. Smith Harvestore Products, Inc. to the new listing A.O. Smith Engineered Storage Products Company; and The Capital Controls Group to the new listing Capital Controls Company, Inc.

The effective date of the amended certificate is November 2, 2000. A copy of the amended certificate will be kept in the International Trade Administration's Freedom of Information Records Inspection Facility, Room 4102, U.S. Department of Commerce, 14th Street and Constitution Avenue, NW., Washington, DC 20230.

Dated: August 16, 2001.
Vanessa M. Bachman,
Acting Director, Office of Export Trading, Company Affairs.

[FR Doc. 01-21050 Filed 8-20-01; 8:45 am]

BILLING CODE 3510-DR-P